DEPARTMENT OF COMMERCE

International Trade Administration

[A 588 845]

Stainless Steel Sheet and Strip in Coils From Japan: Notice of Initiation and Preliminary Results of Changed Circumstance Antidumping Duty Review, and Intent To Revoke Order in Part

AGENCY: Import Administration, International Trade Administration, Department of Commerce.

ACTION: Notice of initiation and preliminary results of changed circumstance antidumping duty review, and intent to revoke order in part.

EFFECTIVE DATE: September 13, 2000.

SUMMARY: On August 1, 2000, the Department of Commerce (“Department”) received a request on behalf of General Chemical Corporation, and its subsidiary, Printing Developments, Inc., (“PDI”) for a changed circumstance antidumping duty (“AD”) review and an intent to revoke in part the AD order with respect to specific stainless steel and strip from Japan. The Department received a letter on August 16, 2000, from Allegheny Ludlum, AK Steel (formerly Armco, Inc.), Washington Steel Division of Bethlehem Steel Corporation (formerly Lukens, Inc.), the United Steelworkers of America, AFL-CIO/CLC, the Butler Armco Independent Union and the Zanesville Armco Independent Organization, Inc. (“petitioners”) indicting that they do not oppose PDI's request for revocation in part of the order pursuant to a changed circumstance review with respect to the subject merchandise defined in the Scope of the Review section below. Based on this expression of no interest we are initiating a changed circumstance review and preliminary determine that the AD order should be revoked in part with respect to that product.

Interested parties are invited to comment on these preliminary results.

FOR FURTHER INFORMATION CONTACT: Alex Villanueva or James C. Doyle, Import Administration, International Trade Administration, U.S. Department of Commerce, 14th Street and Constitution Avenue, NW., Washington DC 20230; telephone (202) 482-6412 and (202) 482-0159, respectively.

SUPPLEMENTARY INFORMATION:

Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department's regulations are to the regulations at 19 CFR part 351 (April 1999).

Background

On July 27, 1999, the Department published the Notice of Amended Final Determination of Sales at Less Than Fair Value and Antidumping Duty Order on stainless steel sheet and strip from Japan (64 FR 40565).

On August 1, 2000, PDI requested revocation in part of the antidumping order pursuant to section 751(b)(1) of the Act and § 351.216(b) of the Department's regulations with respect to specific stainless steel sheet and strip in coils from Japan, as described below. PDI further requested that revocation be effective for all unliquidated entries on or after the date of publication of the Department's January 4, 1999 preliminary less than fair value (“LTFV”) determination (64 FR 108). On August 29, 2000, petitioners indicated that they do not oppose this request for revocation in part, as noted above.

Scope of the Review

The product covered by this exclusion request is certain stainless steel lithographic sheet. This sheet is made of 304-grade stainless steel and must satisfy each of the following specifications. The sheet must: (1) Have an ultimate tensile strength of minimum 75 KSI; (2) a yield strength of minimum 30 KSI; (3) a minimum elongation of 40 percent; (4) a coil weight of 4,000-6,000 lbs.; (5) a width tolerance of −0/+0.0625 inch and (6) a gauge tolerance of +/−0.001 inch. With regard to flatness; (7) the wave height and wave length dimensions must correspond to both edge wave and center buckle conditions; (8) the maximum wave height shall not exceed 0.75 percent of the wave length or 3 mm (0.118 inch), whichever is less, and (9) the wave length shall not be less than 100 mm (3.937 inch). With regard to the surface, (10) the surface roughness must be RMS (RA) 4-8; (11) the surface must be degreased and no oil will be applied during the slitting operation; (12) the surface finish shall be free from all visual cosmetic surface variations or stains in spot or streak form that affect the performance of the material; (13) no annealing border is acceptable; (14) the surface finish shall be free from all defects in raised or depression nature (e.g. scratches, gouges, pimples, dimples, etc.) exceeding 15 microns in size and with regard to dimensions; (15) the thickness will be .0145+/−.001 and the widths will be either 38″, 38.25″, or 43.5″ and the thickness for 39″ material will be 0118 +/−.001 inches.

Initiation and Preliminary Results of Changed Circumstance AD Review, and Intent To Revoke Order in Part

At the request of PDI, and in accordance with sections 751(d)(1) and 751(b)(1) of the Act and section 351.216 of the Department's regulations, the Department is initiating a changed circumstance review of stainless steel sheet and strip from Japan to determine whether partial revocation of the antidumping order is warranted with respect to the stainless steel sheet and strip subject to this request. Section 782(h)(2) of the Act and § 351.222(g)(l)(1) of the Department's regulations provide that the Department may revoke an order (in whole or in part) if it determines that producers accounting for substantially all of the production of the domestic like product have no further interest in the order, in whole or in part. In addition, in the event the Department determines that expedited action is warranted, section 351.221(c)(3)(ii) of the regulations permits the Department to combine the notices of initiation and preliminary results.

In accordance with section 751(b) of the Act, and § § 351.222(g)(l)(1) and 351.221(c)(3) of the Department's regulations, we are initiating this changed circumstance review and have determined that expedited action is warranted. Our decision to expedite this review stems from the domestic industry's lack of interest in applying the antidumping order to the specific stainless steel sheet and strip covered by this request. Additionally, in accordance with § 351.216(c) we find that the petitioners' affirmative statement of no interest constitutes good cause for the conduct of this review.

Based on the expression of no interest by petitioners and absent any objection by any other domestic interested parties, we have preliminarily determined that substantially all of the domestic producers of the like product have no interest in continued application of the AD order to the stainless steel sheet and strip subject to this request. Therefore, we are notifying the public of our intent to revoke, in part, the AD order as it relates to imports of the merchandise described above from Japan.

Public Comment

Interested parties may submit case briefs and/or written comments no later than 14 days after the date of publication of these preliminary results. Rebuttal briefs and rebuttals to written comments, limited to issues raised in such briefs or comments, may be filed no later than 21 days after the date of publication. The Department will issue the final results of this changed circumstance review, which will include the results of its analysis raised in any such written comments, no later than 270 days after the date on which this review was initiated, or written 45 days if all parties agree to our preliminary determinations. See § 351.216(e) of the Department's regulations.

If final revocation occurs, we will instruct the U.S. Customs Service to end the suspension of liquidation for the merchandise covered by the revocation effective on or after January 4, 1999, the date of publication of the Department's preliminary LTFV determination (64 FR 108) and to release any cash deposit or bond. See § 351.222(g)(4) of the Department's regulations. The current requirement for a cash deposit of estimated AD duties on all subject merchandise will continue unless and until it is modified pursuant to the final results of this changed circumstance review.

This initiation of review and notice are in accordance with sections 751(b) of the Act (19 U.S.C. 1675(b)) and 19 C.F.R. 351.216, 351.221, and 351.222.

Dated: September 15, 2000.
Troy H. Cribb,
Acting Assistant Secretary for Import Administration.

[FR Doc. 00-23540 Filed 9-12-00; 8:45 am]

BILLING CODE 3510-DS-M